DEPARTMENT OF STATE

[Public Notice 10154]

Department of State FY 2016 Service Contract Inventory

AGENCY: Department of State.

ACTION: Notice of release of the Department of State's FY 2016 Service Contract Inventory.

SUMMARY: Acting in compliance with Section 743 of Division C of the Consolidated Appropriations Act of 2010 (Pub. L. 111-117), the Department of State is publishing this notice to advise the public of the availability of the FY 2016 Service Contract Inventory. The FY 2016 Service Contract Inventory includes the FY 2016 Planned Analysis, and the FY 2015 Meaningful Analysis.

The inventory was developed in accordance with guidance issued by the Office of Management and Budget (OMB), Office of Federal Procurement Policy (OFPP). The Department of State has posted its FY 2016 Service Contract Inventory at the following link: http://csm.state.gov/content.asp?content_id=135&menu_id=71.

DATES: The inventory is available on the Department's Web site as of September 18, 2017.

FOR FURTHER INFORMATION CONTACT: Marlon Henry, Management and Program Analyst, A/EX/CSM, 202-485-7210, HenryMD@state.gov.

Marlon Henry,
Management and Program Analyst, Collaborative Strategy and Management Division, Bureau of Administration, Department of State.

[FR Doc. 2017-21364 Filed 10-3-17; 8:45 am]

BILLING CODE 4710-24-P